DEPARTMENT OF LABOR

Employment and Training Administration

[TA-W-60,753]

CERF Brothers Bag Co., Inc.; Design and Product Development Department; Earth City, MO; Determination Regarding Eligibility To Apply for Worker Adjustment Assistance and Alternative Trade Adjustment Assistance

On March 16, 2007, the Department issued an Affirmative Determination Regarding Application on Reconsideration applicable to workers and former workers of the subject firm. The notice was published in the Federal Register on March 22, 2007 (72 FR 13526-13527).

The previous investigation initiated on January 12, 2007, resulted in a negative determination issued on February 16, 2007, was based on the finding that the worker group was engaged in distribution of products manufactured abroad and workers did not produce an article within the meaning of Section 222 of the Trade Act of 1974. The denial notice was published in the Federal Register on February 27, 2007 (72 FR 8795).

To support the request for reconsideration, the petitioner supplied additional information regarding a specific department within the subject firm and production performed by workers of this department. The petitioner stated that workers of Design and Product Development Department of the subject firm manufactured samples for marketing purposes.

Upon further contact with the subject firm's company official, it was revealed that workers employed at the CERF Brothers Bag Co., Inc., Design and Product Development Department, Earth City, Missouri manufactured prototypes and samples (carry bags, daypacks, and cargo bags) and these workers were separately identifiable from other workers at the subject firm.

Having conducted a further investigation on reconsideration, it was revealed that the subject firm ceased production of prototypes and samples (carry bags, daypacks, and cargo bags) manufactured by the Design and Product Development Department, while increasing its reliance on imported prototypes and samples from 2005 to 2006.

In accordance with Section 246 the Trade Act of 1974 (26 U.S.C. 2813), as amended, the Department of Labor herein presents the results of its investigation regarding certification of eligibility to apply for alternative trade adjustment assistance (ATAA) for older workers.

The group eligibility criteria for the ATAA program that the Department must consider under Section 246 of the Trade Act are:

1. Whether a significant number of workers in the workers' firm are 50 years of age or older.

2. Whether the workers in the workers' firm possess skills that are not easily transferable.

3. The competitive conditions within the workers' industry (i.e., conditions within the industry are adverse).

The ATAA investigation revealed that a significant number of workers in the workers' at CERF Brothers Bag Co, Inc., Design and Development Department, Earth City, Missouri are not 50 years of age or older during the relevant time period and thus criterion (1) has not been met.

Conclusion

After careful review of the facts obtained in the investigation, I determine that increases of imports of articles like or directly competitive with prototypes and samples (carry bags, daypacks, and cargo bags), produced by CERF Brothers Bag Co., Inc., Design and Product Development Department, Earth City, Missouri, contributed importantly to the total or partial separation of workers and to the decline in sales or production at that firm or subdivision. In accordance with the provisions of the Act, I make the following certification:

Workers of CERF Brothers Bag Co., Inc., Design and Product Development Department, Earth City, Missouri, engaged in employment related to the production of prototypes and samples of carry bags, daypacks, and cargo bags, who became totally or partially separated from employment on or after January 10, 2006, through two years from the date of certification are eligible to apply for adjustment assistance under Section 223 of the Trade Act of 1974.

I also determine that workers of CERF Brothers Bag Co., Inc., Earth City, Missouri, excluding the Design and Product Development Department, are denied eligibility to apply for adjustment assistance under Section 223 of the Trade Act of 1974.

I further determine that workers of CERF Brothers Bag Co., Inc., Earth City, Missouri are denied eligibility to apply for alternative trade adjustment assistance under Section 246 of the Trade Act of 1974.

Signed in Washington, DC, this 20th day of April 2007.
Elliott S. Kushner,
Certifying Officer, Division of Trade Adjustment Assistance.

[FR Doc. E7-7965 Filed 4-25-07; 8:45 am]

BILLING CODE 4510-FN-P